DEPARTMENT OF TRANSPORTATION

Surface Transportation Board

[Docket No. FD 35906]

Soo Line Railroad Company—Trackage Rights Exemption—Dakota, Minnesota & Eastern Railroad Corporation

Dakota, Minnesota & Eastern Railroad Corporation (DM&E), pursuant to a written trackage rights agreement dated March 27, 2015, has agreed to grant overhead and local trackage rights to Soo Line Railroad Company (Soo) over approximately 223.1 miles of rail line extending between Goodview, Minn., and Tracy, Minn. (the Line). Specifically, Soo will acquire trackage rights between milepost 4.9 +/− on DM&E's Waseca Subdivision at or in the vicinity of Goodview and milepost 228.0 +/− on DM&E's Tracy Subdivision where it meets Rapid City, Pierre & Eastern Railroad at or in the vicinity of Tracy.

This transaction is related to a concurrently filed verified notice of exemption in Dakota, Minnesota & Eastern Railroad—Trackage Rights Exemption—Soo Line Railroad, Docket No. FD 35907, wherein Soo has agreed to grant DM&E overhead and local trackage rights over approximately 132.6 miles of rail line extending (1) between Goodview and Merriam Park in St. Paul, Minn., and (2) between Goodview and Bridge Switch in Bluff, Minn.

Soo may consummate its acquisition on or after April 29, 2015, the effective date of the exemption (30 days after the verified notice of exemption was filed).

According to Soo, the proposed transaction, along with the transaction in Docket No. FD 35907, is part of an exchange of nonexclusive trackage rights between two affiliated rail carriers ¹ that is intended to allow more fluid and efficient operations over both carriers. Soo's trackage rights will include the right to conduct both overhead and local service and the right to perform pickups and setoffs at customer facilities over the Line.

¹ Soo and DM&E are affiliated carriers under common control pursuant to Board authority. See Canadian Pac. Ry.—Control—Dakota, Minn. & E. R.R., FD 35081 (STB served Sept. 30, 2008).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by April 22, 2015 (at least seven days before the exemption becomes effective).

An original and 10 copies of all pleadings, referring to Docket No. FD 35906, must be filed with the Surface Transportation Board, 395 E Street SW., Washington, DC 20423-0001. In addition, a copy of each pleading must be served on W. Karl Hansen, Stinson Leonard Street LLP, 150 South Fifth Street, Suite 2300, Minneapolis, MN 55402.

Board decisions and notices are available on our Web site at “WWW.STB.DOT.GOV.”

Decided: April 10, 2015.
By the Board, Rachel D. Campbell, Director, Office of Proceedings.
Brendetta S. Jones,
Clearance Clerk.

[FR Doc. 2015-08669 Filed 4-14-15; 8:45 am]

BILLING CODE 4915-01-P